DEPARTMENT OF COMMERCE

National Oceanic and Atmospheric Administration

50 CFR Part 648

[Docket No. 110707371-2136-02]

RIN 0648-XC098

Fisheries of the Northeastern United States; Atlantic Mackerel, Squid, and Butterfish Fisheries; Closure of the 2012 Trimester 2 Directed Longfin Squid Fishery

AGENCY: National Marine Fisheries Service (NMFS), National Oceanic and Atmospheric Administration (NOAA), Commerce.

ACTION: Temporary rule; closure.

SUMMARY: NMFS announces that 90 percent of the Trimester 2 longfin squid (longfin) quota is projected to be harvested by 0001 hours, July 10, 2012. Therefore, the directed longfin fishery in the Exclusive Economic Zone (EEZ) will be closed as of 0001 hours, July 10, 2012, and vessels issued a Federal permit are prohibited from possessing or landing more than 2,500 lb (1.13 mt) of longfin for the remainder of Trimester 2 (through August 31, 2012). The directed longfin fishery will re-open for Trimester 3 on September 1, 2012. This action is necessary to prevent the fishery from exceeding its Trimester 2 allocation of 12,490,290 lb (5,666 mt), and to allow for effective management of this stock.

DATES: Effective 0001 hours, July 10, 2012, through 2400 hours, August 31, 2012.

FOR FURTHER INFORMATION CONTACT: Lindsey Feldman, Fishery Management Specialist, 978-675-2179, Fax 978-281-9135.

SUPPLEMENTARY INFORMATION: Regulations governing the longfin fisheries are found at 50 CFR part 648. The regulations require specifications for maximum sustainable yield, initial optimum yield, allowable biological catch (ABC), domestic annual harvest (DAH), domestic annual processing, joint venture processing, and total allowable levels of foreign fishing for the species managed under the Atlantic Mackerel, Squid, and Butterfish Fishery Management Plan (FMP). The procedures for setting the annual initial specifications are described in § 648.22.

The longfin DAH for the 2012 fishing year (FY) is 22,220 mt, and is allocated into three trimesters: Trimester 1 (January 1-April 30) is allocated 43 percent of the quota (9,555 mt); Trimester 2 (May 1-August 31) is allocated 17 percent of the quota (3,777 mt); and Trimester 3 (September 1-December 31) is allocated 40 percent of the quota (8,888 mt) (77 FR 16472, March 21, 2012).

Due to an underharvest of quota in Trimester 1, NMFS adjusted the Trimester 2 quota from the initial quota of 3,777 mt (8,326,860 lb) to a new quota of 5,666 mt (12,490,290 lb). Section 648.24 requires NMFS to close the directed longfin fishery in the EEZ when 90 percent of the Trimester 2 quota is projected to be harvested. NMFS is required to notify the Executive Directors of the Mid-Atlantic, New England, and South Atlantic Fishery Management Councils; mail notification of the closure to all longfin permit holders at least 72 hr before the effective date of the closure; provide adequate notice of the closure to recreational participants in the fishery; and publish notification of the closure in the Federal Register.

The Administrator, Northeast Region, NMFS, based on dealer reports and other available information, has determined that 90 percent of the Trimester 2 longfin quota for the 2012 fishing year will be harvested on July 10, 2012. Therefore, effective 0001 hours, July 10, 2012, the Trimester 2 directed longfin fishery is closed and vessels issued Federal permits for longfin are prohibited from possessing or landing more than 2,500 lb (1.13 mt) of longfin through August 31, 2012. The Trimester 3 longfin fishery will open at 0001 hours, September 1, 2012.

Classification

This action is required by 50 CFR part 648, and is exempt from review under Executive Order 12866.

The Assistant Administrator for Fisheries, NOAA (AA), finds good cause pursuant to 5 U.S.C. 553(b)(B) to waive prior notice and the opportunity for public comment because it would be contrary to the public interest. This action closes the directed longfin fishery until August 31, 2012, under current regulations. The regulations at § 648.24 require such action to ensure that longfin vessels do not exceed the 2012 Trimester 2 quota. Data indicating the longfin fleet will have landed at least 90 percent of the 2012 Trimester 2 quota have only recently become available. If implementation of this closure is delayed to solicit prior public comment, the quota for Trimester 2 will be exceeded, thereby undermining the conservation objectives of the FMP. The AA further finds, pursuant to 5 U.S.C. 553(d)(3), good cause to waive the 30-day delayed effectiveness period for the reasons stated above.

Authority: 16 U.S.C. 1801 et seq.

Dated: July 6, 2012.
Lindsay Fullenkamp,
Acting Deputy Director, Office of Sustainable Fisheries, National Marine Fisheries Service.

[FR Doc. 2012-16917 Filed 7-6-12; 4:15 pm]

BILLING CODE 3510-22-P